DEPARTMENT OF HOUSING AND URBAN DEVELOPMENT

[Docket No. FR-5750-N-37]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; COE: Mr. Scott Whiteford, Army Corps of Engineers, Real Estate, CEMP-CR, 441 G Street NW., Washington, DC 20314; (202) 761-5542; Commerce: Ms. Linda Steward, Department of Commerce, Office of Real Estate, 1401 Constitution Ave. NW., Room 1036, Washington, DC 20230, (202) 482-1770; Energy: Mr. David Steinau, Department of Energy, Office of Property Management, 1000 Independence Ave. SW., Washington, DC 20585 (202) 287-1503; GSA: Mr. Flavio Peres, General Services Administration, Office of Real Property Utilization and Disposal, 1800 F Street NW., Room 7040, Washington, DC 20405, (202) 501-0084; Interior: Mr. Michael Wright, Acquisition & Property Management, Department of the Interior, 3960 N. 56th Ave., #104, Hollywood, FL 33021; (443) 223-4639; (These are not toll-free numbers).

Dated: September 4, 2014.
Brian P. Fitzmaurice,
Director, Division of Community Assistance, Office of Special Needs Assistance Programs.

TITLE V, FEDERAL SURPLUS PROPERTY PROGRAM FEDERAL REGISTER REPORT FOR 09/12/2014

Suitable/Available Properties

Building

Illinois

22 Buildings

Fermi National Accelerator Lab

Batavia IL 60510

Landholding Agency: Energy

Property Number: 41201430004

Status: Excess

Directions: T085, T137, T138, T139, T142, T144, T145, T146, T147, T149, T151, T163, T164, T165, T166, T167, T168, T169, T170, T171, T175, T177

Comments: off-site removal only; sq. varies; good to moderate conditions; trailers; secured area; contact Energy for more information on a specific property & accessibility requirements.

Iowa

3 Buildings; CENWK-of-RA

Rathbun Lake, Rolling Cove Bldg.

Junction of 160the Ave, & 435 St.

Mystic IA 52544

Landholding Agency: COE

Property Number: 31201430006

Status: Underutilized

Directions: #70003 Property ID #29388; #7004 Property ID #29389: #70005 Property ID #29390

Comments: off-site removal only no future agency need; sq. ft. varies; deteriorations conditions; contact COE for more information on a specific property.

Nevada

Railroad Building Main Bldg.

(FRPP RPUID R15100300700B)

400 Railroad Ave.

Boulder City NV 89005

Landholding Agency: Interior

Property Number: 61201430001

Status: Unutilized

Directions: 14,428 sq.; storage/office; friable asbestos; $500K-$600K for remediation

Comments: off-site removal only; no future agency need; relocation may be difficult due to site/type; contact Interior for more information.

Oregon

XX334 GB Grizzly Communication

Bldg. 1560.005181 076630 00

Agness OR 97406

Landholding Agency: Agriculture

Property Number: 15201430020

Status: Excess

Directions: 25 sq.; shed; 39+ yrs.-old; poor condition

Comments: off-site removal only; restrictive removal due to constraints surrounding land/vegetation.

US Moorings

8010 Northwest Saints Helens Road

Portland OR 97210

Landholding Agency: COE

Property Number: 31201430008

Status: Underutilized

Directions: US Government-Storage Building (North of Machine Shop)

Comments: off-site removal only; no future agency; 10x60 sq., removal may be difficult; poor conditions; storage space; contamination; secured area; contact COE for more information.

Texas

Ft Hancock Border Patrol Station

235 Knox Avenue

Ft. Hancock TX 79839

Landholding Agency: GSA

Property Number: 54201430010

Status: Surplus

GSA Number: 7-X-TX-1157-AA

Directions: Disposal Agency; GSA; Land holding Agency; US Customs and Border Protection

Comments: 3,022 sq. ft.; office, storage, detention; 49+ years old; fair to moderate condition; contact GSA for more information.

Ft Hancock Border Patrol Station

250 Kbix Avenue

Ft Hancock TX 79839

Landholding Agency: GSA

Property Number: 54201430012

Status: Surplus

GSA Number: 7-X-TX-1157-AB

Directions: Disposal Agency; GSA; land holding agency; US Customs and Border Protection.

Comments: 888 sq. ft.; residential; 42+ years old; fair to moderate condition; contact GSA for more information.

Suitable/Available Properties

Land

Alabama

1.74 acres

1707 Capshaw Road

Madison AL 35757

Landholding Agency: GSA

Property Number: 54201430011

Status: Excess

GSA Number: 4-U-AL-0813AA

Directions: Disposal agency; GSA; land holding agency; FAA

Comments: surrounding land use residential improvements; gravel driving; contact GSA for more information.

Unsuitable Properties

Building

California

Building 182 & 212

LLNL Site 200, on the SW guardant of the site off of Westgate Dr./First St.

Livermore CA 94550

Landholding Agency: Energy

Property Number: 41201430005

Status: Excess

Comments: public access denied and no alternative method to gain access w/out compromising national security

Reasons: Secured Area

Building 221

LLNL Site 200, on the SW guardant of the site off of Second St.

Livermore CA 94550

Landholding Agency: Energy

Property Number: 41201430006

Status: Excess

Comments: public access denied and no alternative method to gain access w/out compromising national security

Reasons: Secured Area

9 Trailers

LLNL Site 200

Livermore CA 94550

Landholding Agency: Energy

Property Number: 41201430007

Status: Excess

Directions: 1601; 1884; 1885; 1927; 2684; 4385; 4926; 5425; 2728

Comments: public access denied and no alternative method to gain access w/out compromising national security

Reasons: Secured Area

Colorado

8 Buildings; East Portal Site

Gilpin County Road

Nederland CO

Landholding Agency: Agriculture

Property Number: 15201430019

Status: Excess

Directions: 176; 177; 178; 179; 180; 181; 182; 183

Comments: documented deficiencies; structurally unsound; extreme deterioration; clear threat of physical safety.

Reasons: Extensive deterioration

Virginia

Old Generator—Building 17

Thunder Road

Sterling VA

Landholding Agency: Commerce

Property Number: 27201430002

Status: Unutilized

Comments: property located within airport clear zone for Dulles International Airport.

Reasons: Within airport runway clear zone

Old Weather Forecast Office

Weather Service Road

Sterling VA

Landholding Agency: Commerce

Property Number: 27201430003

Status: Unutilized

Comments: located within airport clear zone for Dulles International Airport.

Reasons: Within airport runway clear zone

Old Storage Building

Weather Service Road

Sterling VA

Landholding Agency: Commerce

Property Number: 27201430004

Status: Unutilized

Comments: property located within airport clear zone for Dulles International Airport.

Reasons: Within airport runway clear zone

Old Upper Air Inflation Bldg.

Thunder Road

Sterling VA

Landholding Agency: Commerce

Property Number: 27201430005

Status: Unutilized

Comments: property located within airport clear zone; within protection zone for Dulles International Airport.

Reasons: Within airport runway clear zone

Old SFSC Observation Bldg.

Weather Service Rd.

Sterling VA

Landholding Agency: Commerce

Property Number: 27201430006

Status: Unutilized

Comments: located w/in airport clear zone for Dallas International Airport

Reasons: Within airport runway clear zone

Old Sterling Field Support

Center Storage Bldg. #15

Thunder Rd.

Sterling VA

Landholding Agency: Commerce

Property Number: 27201430007

Status: Unutilized

Comments: located w/in airport clear zone for Dallas International Airport

Reasons: Within airport runway clear zone

Land

Delaware

Bellevue Confined Disposal Are

1380 East 4th Street

Wilmington DE 19802

Landholding Agency: COE

Property Number: 31201430007

Status: Excess

Comments: public access denied & no alternative without compromising National Security.

Reasons: Secured Area

[FR Doc. 2014-21430 Filed 9-11-14; 8:45 am]

BILLING CODE 4210-67-P